DEPARTMENT OF COMMERCE

International Trade Administration

[A-122-822, A-122-823]

Certain Corrosion-Resistant Carbon Steel Flat Products and Certain Cut-to-Length Carbon Steel Plate From Canada: Rescission in Part and in Whole of Antidumping Duty Administrative Reviews

AGENCY: Import Administration, International Trade Administration, U.S. Department of Commerce.

ACTION: Rescission in part and in whole of antidumping duty administrative reviews: certain corrosion-resistant carbon steel flat products and certain cut-to-length carbon steel plate from canada.

SUMMARY: In response to timely requests from interested parties, the Department of Commerce (the Department) initiated administrative reviews of the antidumping duty orders on certain corrosion-resistant carbon steel flat products (CORE) and certain cut-to-length carbon steel plate (CTL plate) from Canada. See Initiation of Antidumping and Countervailing Duty Administrative Reviews and Requests for Revocation in Part, 65 FR 58733 (October 2, 2000). These reviews cover five manufacturers/exporters of CORE for the period from August 1, 1999 through July 31, 2000, and three manufacturers/exporters of CTL plate for the period from August 1, 1999 through December 31, 1999. Because certain interested parties have withdrawn their requests for review, the Department is rescinding, in whole, its review of CORE and rescinding, in part, its review of CTL plate in accordance with 19 CFR 351.213(d)(1).

EFFECTIVE DATE: July 27, 2001.

FOR FURTHER INFORMATION CONTACT: Abdelali Elouaradia or Julio Fernandez, AD/CVD Enforcement Group III, Office 7, Import Administration, International Trade Administration, U.S. Department of Commerce, 14th Street and Constitution Avenue, N.W., Washington D.C. 20230; telephone (202) 482-1374 or (202) 482-0190, respectively.

Applicable Statute and Regulations

Unless otherwise indicated, all citations to the Tariff Act of 1930, as amended (“the Act”), are references to the provisions effective January 1, 1995, the effective date of the amendments made to the Act by the Uruguay Round Agreements Act. In addition, unless otherwise indicated, all citations to the Department's regulations are to the provisions codified at 19 CFR Part 351 (2000).

SUPPLEMENTARY INFORMATION:

Background

The Department published in the Federal Register antidumping duty orders on CORE and CTL plate from Canada on August 19, 1993. See Antidumping Duty Orders: Certain Corrosion-Resistant Carbon Steel Flat Products and Certain Cut-to-Length Carbon Steel Plate from Canada, 58 FR 44162 (August 19, 1993). The Department received timely requests from interested parties to conduct administrative reviews pursuant to § 351.213(b) of the Department's regulations. On September 26, 2000, the Department initiated an administrative review covering five manufacturers/exporters of CORE: Stelco, Inc. (Stelco), Continuous Colour Coat, Ltd. (CCC), Sorevco, Inc. (Sorevco), Dofasco, Inc. (Dofasco), and National Steel Corporation (National). We also initiated an administrative review of three manufacturers/exporters of CTL plate: Stelco, Clayson Steel Inc. (Clayson), and Gerdau MRM Steel (MRM). See Initiation of Antidumping and Countervailing Duty Administrative Reviews, 65 FR 58733 (October 2, 2000).

On November 17, 2000, Sorevco and Dofasco withdrew their requests for an administrative review of CORE. The Department received a letter on November 28, 2000 from National withdrawing its request for an administrative review of CORE. On December 5, 2000, the petitioner withdrew its request for an administrative review of CORE with respect to CCC, and on December 13, 2000, the petitioner withdrew its request for an administrative review of CORE with respect to Stelco. The petitioner withdrew its request for an administrative review of CORE with respect to Sorevco and Dofasco on November 20, 2000. Sorevco, Dofasco, Stelco, and CCC were the only producers of CORE for which petitioners had requested a review.

On May 8, 2001, MRM withdrew its request for a review of CTL plate. The petitioner withdrew its request for an administrative review of CTL plate with respect to Stelco on December 13, 2000, and with respect to MRM on May 11, 2001, the only producers of CTL plate for which it had requested a review.

On December 8, 2000, the Department revoked the antidumping duty order on CTL plate from Canada, effective January 1, 2000, pursuant to section 751(c) of the Act. See Revocation of Antidumping and Countervailing Duty Orders on Certain Carbon Steel Products From Canada, Germany, Korea, the Netherlands, and Sweden, 65 FR 78467 (December 15, 2000). As a result of the revocation of this order, the period of review for the seventh administrative review of CTL plate is shortened to the period from August 1, 1999 through December 31, 1999.

Due to extraordinarily complicated issues in this case, the Department extended the deadline for completion of these antidumping duty administrative reviews on February 26, 2001. See Certain Corrosion-Resistant Carbon Steel Flat Products and Certain Cut-to-Length Carbon Steel Plate From Canada: Extension of Time Limits for Preliminary Results of Antidumping Administrative Review, 66 FR 12924 (March 1, 2001).

Rescission, in Whole, of Antidumping Administrative Review of CORE

Pursuant to our regulations, the Department will rescind an administrative review, “if a party that requested the review withdraws the request within 90 days of the date of publication of notice of initiation of the requested review.” See 19 CFR 351.213(d)(1). This section further provides that the Secretary may extend this time limit if the Secretary decides that it is reasonable to do so. See 19 CFR 351.213(d)(1). In this case, the interested parties' withdrawals of their requests for review were within the 90-day time limit. Therefore, the Department has determined that it is reasonable to rescind, in whole, the administrative review of CORE for the period August 1, 1999 through July 31, 2000. The Department will issue appropriate assessment instructions to the U.S. Customs Service (Customs).

Rescission, in Part, of Antidumping Administrative Review of CTL Plate

Pursuant to our regulations, the Department will rescind an administrative review, “if a party that requested the review withdraws the request within 90 days of the date of publication of notice of initiation of the requested review.” See 19 CFR 351.213(d)(1). This section further provides that the Secretary may extend this time limit if the Secretary decides that it is reasonable to do so. See 19 CFR 351.213(d)(1). In this case, petitioners' withdrawal of its request for review with respect to Stelco was within the 90-day time limit. Petitioners' withdrawal of its request for review with respect to MRM and MRM's withdrawal of its request for review were not within the 90-day time limit. However, because there were no objections from other interested parties, the Department has determined that it is reasonable to rescind in part the administrative review of CTL plate with respect to Stelco and MRM for the period August 1, 1999 through December 31, 1999. Further, the Department will issue appropriate assessment instructions to Customs. The Department is not rescinding its review of CTL plate with respect to Clayson for the period of August 1, 1999 through December 31, 1999. Therefore, the Department's CTL plate review now covers Clayson only for the period August 1, 1999 through December 31, 1999.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with 19 CFR 351.213(d)(4) and sections 751(a)(1) and 777(i)(1) of the Act.

Date: July 18, 2001.
Joseph A. Spetrini,
Deputy Assistant Secretary, AD/CVD Enforcement Group III.

[FR Doc. 01-18812 Filed 7-26-01; 8:45 am]

BILLING CODE 3510-DS-P